DEPARTMENT OF ENERGY

Western Area Power Administration

Loveland Area Projects—Extension of Transmission and Ancillary Service Rates—Rate Order No. WAPA-101

AGENCY: Western Area Power Administration, DOE.

ACTION: Notice of rate order.

SUMMARY: This action is being taken to extend the existing Loveland Area Projects (LAP) Transmission and Ancillary Service rates, Rate Order No. WAPA-80, and Energy Imbalance Service rate, Rate Order No. WAPA-97, through March 31, 2004. The existing LAP Transmission and Ancillary Service rates and the Energy Imbalance Service rate will expire March 31, 2003.

FOR FURTHER INFORMATION CONTACT: Mr. Daniel T. Payton, Rates Manager, Rocky Mountain Customer Service Region, Western Area Power Administration, P.O. Box 3700, Loveland, CO 80539-3003, (970) 461-7442, or e-mail dpayton@wapa.gov.

SUPPLEMENTARY INFORMATION: By Delegation Order No. 00-0037.00 approved December 6, 2001, the Secretary delegated: (1) The authority to develop long-term power and transmission rates on a non-exclusive basis to Western's Administrator; (2) the authority to confirm, approve, and place such rates into effect on an interim basis to the Deputy Secretary; and (3) the authority to confirm, approve, and place into effect on a final basis, to remand, or to disapprove such rates to the Federal Energy Regulatory Commission (FERC).

The Deputy Secretary approved the existing Rate Schedules L-NT1, L-FPT1, L-NFPT1, L-AS1, L-AS2, L-AS3, L-AS4, L-AS5, and L-AS6 on March 23, 1998 (Rate Order No. WAPA-80, 63 FR 16778, April 6, 1998). FERC confirmed and approved the formula rate schedules for Rate Order No. WAPA-80 on July 21, 1998, under FERC Docket No. EF98-5181-000 (at 84 FERC ¶ 61,066). The existing formula rates became effective on April 1, 1998, and are approved through March 31, 2003.

Subsequently, Rate Schedule L-AS4, Energy Imbalance Service, was revised and approved by the Secretary on May 30, 2002 (Rate Order No. WAPA-97, 67 FR 39970, June 11, 2002). Rate Order No. WAPA-97 became effective July 1, 2002, and is approved through March 31, 2003. FERC confirmed and approved the formula rate schedule for Energy Imbalance Service on February 3, 2003 (Docket No. EF02-5181-000).

Western's existing formula rate schedules, which are recalculated annually, will sufficiently recover project expenses (including interest) and capital requirements through the extension period. Western is seeking this extension to provide more time for the evaluation of new rates for ancillary services, particularly energy imbalance and regulation, and to provide a concurrent public process and rate approval period for new rates for firm electric service, transmission service, and ancillary services. For these reasons, Western is extending the existing rates for transmission and ancillary services through March 31, 2004, under 10 CFR part 903.23(b).

I approved Rate Order No. WAPA-101 after DOE reviewed Western's proposal. My approval extends the existing LAP transmission and ancillary services rate schedules L-NT1, L-FPT1, L-NFPT1, L-AS1, L-AS2, L-AS3, L-AS4, L-AS5, and L-AS6 through March 31, 2004.

Dated: March 20, 2003.
Kyle E. McSlarrow,
Deputy Secretary.

Order Confirming and Approving an Extension of the Loveland Area Projects Transmission and Ancillary Service Rates

The Loveland Area Projects (LAP) Transmission and Ancillary Service rates were established following section 302(a) of the Department of Energy (DOE) Organization Act, 42 U.S.C. 7152(a). This act transferred to and vested in the Secretary of Energy (Secretary) the power marketing functions of the Secretary of the Department of the Interior and the Bureau of Reclamation under the Reclamation Act of 1902, ch. 1093, 32 Stat. 388, as amended and supplemented by subsequent enactments, particularly section 9(c) of the Reclamation Project Act of 1939, 43 U.S.C. 485h(c), and other acts that specifically apply to the project system involved.

By Delegation Order No. 00-0037.00 approved December 6, 2001, the Secretary delegated: (1) The authority to develop long-term power and transmission rates on a non-exclusive basis to Western's Administrator; (2) the authority to confirm, approve, and place such rates into effect on an interim basis to the Deputy Secretary; and (3) the authority to confirm, approve, and place into effect on a final basis, to remand, or to disapprove such rates to the Federal Energy Regulatory Commission (FERC). This rate extension is issued following the Delegation Order and the DOE rate extension procedures at 10 CFR part 903.23(b).

Background

The Deputy Secretary approved the existing Rate Schedules L-NT1, L-FPT1, L-NFPT1, L-AS1, L-AS2, L-AS3, L-AS4, L-AS5, and L-AS6 on March 23, 1998 (Rate Order No. WAPA-80, 63 FR 16778, April 6, 1998). FERC confirmed and approved the formula rate schedules for Rate Order No. WAPA-80 on July 21, 1998, under FERC Docket No. EF98-5181-000 (at 84 FERC ¶ 61,066). The existing formula rates became effective on April 1, 1998, and are approved through March 31, 2003.

Subsequently, Rate Schedule L-AS4, Energy Imbalance Service, was revised and approved by the Secretary on May 30, 2002 (Rate Order No. WAPA-97, 67 FR 39970, June 11, 2002). Rate Order No. WAPA-97 became effective July 1, 2002, and is approved through March 31, 2003. FERC confirmed and approved the formula rate schedule for Energy Imbalance Service on February 3, 2003 (Docket No. EF02-5181-000).

Discussion

On March 31, 2003, Western's LAP Transmission and Ancillary Service rates and the Energy Imbalance Service rate expire. Western's existing formula rate schedules, which are recalculated annually, will sufficiently recover project expenses (including interest) and capital requirements through the extension period. Western is seeking this extension to provide more time for the evaluation of new rates for ancillary services, particularly energy imbalance and regulation, and to provide a concurrent public process and rate approval period for new rates for firm electric service, transmission service, and ancillary services.

The process will take several months to complete because of the complex issues Western and its interested public must address. It will also offer opportunities for public information and comment forums.

For these reasons, Western seeks to extend existing Rate Schedules L-NT1, L-FPT1, L-NFPT1, L-AS1, L-AS2, L-AS3, L-AS4, L-AS5, and L-AS6 under 10 CFR 903.23(b) through March 31, 2004.

Order

In view of the above and under the authority delegated to me by the Secretary, I hereby extend the existing Rate Schedules L-NT1, L-FPT1, L-NFPT1, L-AS1, L-AS2, L-AS3, L-AS4, L-AS5, and L-AS6 for LAP Transmission and Ancillary services from April 1, 2003, through March 31, 2004.

Dated: March 20, 2003.
Kyle E. McSlarrow,
Deputy Secretary.

[FR Doc. 03-8377 Filed 4-4-03; 8:45 am]

BILLING CODE 6450-01-P